EXPORT-IMPORT BANK

[Public Notice: 2019-3017]

Agency Information Collection Activities: Comment Request

AGENCY: Export-Import Bank of the United States.

ACTION: Submission for OMB review and comments request.

SUMMARY: The Export-Import Banks of the United States (EXIM), as part of its continuing effort to reduce paperwork and respondent burden, invites the general public and other Federal Agencies to comment on the proposed information collection, as required by the Paperwork Reduction Act of 1995. This collection of information is necessary to determine eligibility of the underlying export transaction for EXIM insurance coverage.

DATES: Comments must be received on or before July 17, 2019 to be assured of consideration.

ADDRESSES: Comments may be submitted electronically on WWW.REGULATIONS.GOV (EIB 92-41) or by mail to Office of Information and Regulatory Affairs, 725 17th Street NW, Washington, DC 20038, Attn: OMB 3048-0019. The information collection tool can be reviewed at: https://www.exim.gov/sites/default/files/pub/pending/eib92-41.pdf.

SUPPLEMENTARY INFORMATION:

Title and Form Number: EIB 92-41 Application for Financial Institution Short-Term, Single-Buyer Insurance.

OMB Number: 3048-0019.

Type of Review: Renewal.

Need and Use: The “Application for Financial Institution Short-term Single-Buyer Insurance” form will be used by financial institution applicants to provide EXIM with the information necessary to determine if the subject transaction is eligible for EXIM insurance coverage.

Affected Public: This form affects entities involved in the export of U.S. goods and services.

Annual Number of Respondents: 215.

Estimated Time per Respondent: 1.6 hours.

Annual Burden Hours: 344.

Frequency of Reporting of Use: Annual.

Government Expenses:

Reviewing Time per Year: 1,290 hours.

Average Wages per Hour: $42.50.

Average Cost per Year: $54,825 (time*wages).

Benefits and Overhead: 20%.

Total Government Cost: $65,790.

Bassam Doughman,
IT Specialist.

[FR Doc. 2019-12687 Filed 6-14-19; 8:45 am]

BILLING CODE 6690-01-P